DEPARTMENT OF HEALTH AND HUMAN SERVICES

Centers for Medicare & Medicaid Services

[CMS-7077-N2]

Announcement of the Advisory Panel on Outreach and Education (APOE) Virtual Meeting; Cancellation of the February 6, 2025, Virtual Meeting

AGENCY: Centers for Medicare & Medicaid Services (CMS), Health and Human Services (HHS).

ACTION: Notice.

SUMMARY: This notice announces the cancellation of the February 6, 2025, virtual public meeting of the Advisory Panel on Outreach and Education (APOE) (the Panel) that was announced in the January 10, 2025, Federal Register (90 FR 2003 through 2005). CMS will publish a notice in the Federal Register announcing the date on which the next meeting of the APOE will take place no less than 15 calendar days before the meeting date. The meeting will be open to the public in accordance with the Federal Advisory Committee Act (FACA) (Pub. L. 92-463), as amended (5 U.S.C. Appendix 2).

FOR FURTHER INFORMATION CONTACT: Hailey Gutzmer, Acting Designated Federal Official, Office of Communications, Centers for Medicare & Medicaid Services, 200 Independence Avenue SW, Mailstop 315D.02, Washington, DC 20201, 410-786-1307, or via email at APOE@cms.hhs.gov.

Additional information about the APOE is available at: https://www.cms.gov/Regulations-and-Guidance/Guidance/FACA/APOE. Press inquiries are handled through the CMS Press Office at (202) 690-6145.

The Acting Administrator of CMS, Jeff Wu, having reviewed and approved this document, authorizes Chyana Woodyard, who is the Federal Register Liaison, to electronically sign this document for purposes of publication in the Federal Register.

Chyana Woodyard,
Federal Register Liaison, Centers for Medicare & Medicaid Services.

[FR Doc. 2025-02215 Filed 2-3-25; 8:45 am]

BILLING CODE 4120-01-P